DEPARTMENT OF THE INTERIOR

Office of the Secretary

National Invasive Species Council; Draft of the National Invasive Species Management Plan, “Meeting the Challenge”

AGENCY: Office of the Secretary, Interior.

ACTION: Notice of Availability—Draft of the National Invasive Species Management Plan, “Meeting the Challenge”.

SUMMARY: Pursuant to Executive Order 13112, the National Invasive Species Council is announcing the availability of the draft of the National Invasive Species Management Plan, “Meeting the Challenge” for public review and comment for a period of 45 days. The Executive Order set up an inter-agency council to prevent and control invasive species to minimize their economic, ecological and human health impacts. The Council is co-chaired by the Secretaries of Agriculture, Commerce and the Interior; and includes the Departments of State, Transportation, the Treasury and the Environmental Protection Agency. The Plan seeks to address invasive species in the areas of prevention, coordination, control, rapid response, monitoring, and information sharing.

DATES: All Comments must be received by close of business (6:00 p.m.—eastern time) on November 16, 2000.

ADDRESSES: National Invasive Species Council, 1951 Constitution Avenue, N.W., Suite 320, Washington, D.C. 20240.

FOR FURTHER INFORMATION CONTACT: Kelsey Passe, National Invasive Species Council Program Analyst; E-mail: Kelsey_Passe@ios.doi.gov; Phone: (202) 208-6336; Fax: (202) 208-1526.

SUPPLEMENTARY INFORMATION: Copies of the draft Plan can be obtained via the Council's website: www.invasivespecies.gov; by contacting the Council Staff at 202-208-6336 (phone); 202-208-1526 (Fax); or by e-mail at invasivespecies@ios.doi.gov. Comments can be submitted to the Council Staff at the fax, e-mail, or mailing address given above.

Dated: September 28, 2000.
Lori Williams,
Executive Director, National Invasive Species Council.

[FR Doc. 00-25338 Filed 9-29-00; 8:45 am]

BILLING CODE 4310-RK-P